NUCLEAR REGULATORY COMMISSION

[Docket Nos. 50-317 and 50-318]

Calvert Cliffs Nuclear Power Plant, Unit Nos. 1 and 2; Notice of Withdrawal of Application for Amendment to Renewed Facility Operating License

The U.S. Nuclear Regulatory Commission (the Commission) has granted the request of Calvert Cliffs Nuclear Power Plant, Inc. (the licensee) to withdraw its June 7, 2004, application for proposed amendment to Renewed Facility Operating License No. DPR-53 and No. DPR-69, for the Calvert Cliffs Nuclear Power Plant, Unit Nos. 1 and 2, located in Lusby, MD.

The proposed amendment would have revised Technical Specification 3.9.4, “Shutdown Cooling and Coolant Circulation-High Water Level,” to incorporate the use of an alternate cooling method to function as a path for decay heat removal when in Mode 6 with the refueling pool fully flooded.

The Commission had previously issued a Notice of Consideration of Issuance of Amendment published in the Federal Register on November 29, 2004 (69 FR 69417). However, by letter dated March 30, 2005, the licensee withdrew the proposed change.

For further details with respect to this action, see the application for amendment dated June 7, 2004, and the licensee's letter dated March 30, 2005, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 25th day of April 2005.
For the Nuclear Regulatory Commission.
Richard V. Guzman,
Project Manager, Section 1,Project Directorate I, Division of Licensing Project Management, Office of Nuclear Reactor Regulation.

[FR Doc. E5-2052 Filed 4-28-05; 8:45 am]

BILLING CODE 7590-01-P